DEPARTMENT OF TRANSPORTATION

Federal Aviation Administration

Notice of Intent To Rule on Application To Impose and Use the Revenue From a Passenger Facility Charge (PFC) at Glynco Jetport, Brunswick, Georgia

AGENCY: Federal Aviation Administration (FAA), DOT.

ACTION: Notice of intent to rule on application.

SUMMARY: The FAA proposes to rule and invites public comment on the application to impose and use the revenue from a PFC at Glynco Jetport under the provisions of the Aviation Safety and Capacity Expansion Act of 1990 (Title IX of the Omnibus Budget Reconciliation Act of 1990) (Pub. L. 101-508) and Part 158 of the Federal Aviation Regulations (14 CFR part 158).

DATES: Comments must be received on or before December 20, 2000.

ADDRESSES: Comments on this application may be mailed or delivered in triplicate to the FAA at the following address: Atlanta Airports District Office, 1701 Columbia Avenue, Suite 2-260, College Park, Georgia 30337-2747.

In addition, one copy of any comments submitted to the FAA must be mailed or delivered to Mr. Steven V. Brian, Executive Director of the Glynn County Airport Commission at the following address: Mr. Steven V. Brian, Executive Director, Glynn County Airport Commission, 500 Connole Street, Brunswick, Georgia 31525.

Air carriers and foreign air carriers may submit copies of written comments previously provided to the Glynn County Airport Commission under § 158.23 of part 158.

FOR FURTHER INFORMATION CONTACT: Tracie Dominy, Program Manager, Atlanta Airports District Office, 1701 Columbia Avenue, Suite 2-260, College Park, Georgia 3003337-2747, (404) 305-7148. The application may be reviewed in person at this same location.

SUPPLEMENTARY INFORMATION: The FAA proposes to rule and invites public comment on the application to impose and use the revenue from a PFC at Glynco Jetport under the provisions of the Aviation Safety and Capacity Expansion Act of 1990 (Title IX of the Omnibus Budget Reconciliation Act of 1990) (Pub. L. 101-508) and part 158 of the Federal Aviation Regulations (14 CFR part 158).

On November 6, 2000, the FAA determined that the application to impose and use the revenue from a PFC submitted by the Glynn County Airport Commission was substantially complete within the requirements of § 158.25 of part 158. The FAA will approve or disapprove the application, in whole or in part, no later than February 9, 2001.

The following is a brief overview of the application.

PFC Application No. 00-01-C-00-BQK.

Level of the proposed PFC: $3.00.

Proposed charge effective date: February 1, 2001.

Proposed charge expiration date: November 1, 2010.

Total estimated net PFC revenue: $517,141.

Brief description of proposed project(s):

• Master Plan

• Baggage Claim and ARFF Extension

• Remark Runway

• Rehabilitate Taxiway “D”

• Construct ARFF Maintenance Facility

• Terminal Roadway Improvements

• Terminal Renovation

• Alternative Impose Retire PFC Debt

Class or classes of air carriers which the public agency has requested not be required to collect PFCs: Non scheduled certificate route air carrier (filing form T-100).

Any person may inspect the application in person at the FAA office listed above under FOR FURTHER INFORMATION CONTACT.

In addition, any person may, upon request, inspect the application, notice and other documents germane to the application in person at the Glynn County Airport Commission.

Issued in Atlanta, Georgia on November 6, 2000.
Scott L. Seritt,
Manager, Atlanta Airports District Office, Southern Region.

[FR Doc. 00-29661 Filed 11-17-00; 8:45 am]

BILLING CODE 4910-13-M